DEPARTMENT OF TRANSPORTATION

Federal Aviation Administration

14 CFR Part 39

[Docket No. FAA-2005-20881; Directorate Identifier 2004-NM-253-AD; Amendment 39-14302; AD 2003-17-07 R1]

RIN 2120-AA64

Airworthiness Directives; Various Transport Category Airplanes Manufactured by McDonnell Douglas

AGENCY: Federal Aviation Administration (FAA), Department of Transportation (DOT).

ACTION: Final rule.

SUMMARY: The FAA is revising an existing airworthiness directive (AD) that applies to various transport category airplanes manufactured by McDonnell Douglas. We issued that AD to require a one-time test of the fire extinguishers for the engine and auxiliary power unit (APU), as applicable, to determine the capability of the Firex electrical circuits to fire discharge cartridges, and troubleshooting actions if necessary. This new AD removes certain transport category airplanes from the applicability of the existing AD. This AD results from reports indicating that fire extinguishers for the engine and auxiliary power unit had failed to discharge when commanded. We are issuing this AD to prevent failure of the fire extinguishers to fire discharge cartridges, which could result in the inability to put out a fire in an engine or in the APU.

DATES: The effective date of this AD is September 24, 2003.

On September 24, 2003 (68 FR 50058, August 20, 2003), the Director of the Federal Register approved the incorporation by reference of certain service bulletins listed in the AD.

ADDRESSES: You may examine the AD docket on the Internet at http://dms.dot.gov or in person at the Docket Management Facility, U.S. Department of Transportation, 400 Seventh Street SW., Nassif Building, Room PL-401, Washington, DC.

Contact Boeing Commercial Airplanes, Long Beach Division, 3855 Lakewood Boulevard, Long Beach, California 90846, Attention: Data and Service Management, Dept. C1-L5A (D800-0024) for service information identified in this AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA proposed to amend part 39 of the Federal Aviation Regulations (14 CFR part 39) with an airworthiness directive (AD) to revise AD 2003-17-07, amendment 39-13281 (68 FR 50058, August 20, 2003). The existing AD applies to various transport category airplanes manufactured by McDonnell Douglas. The proposed AD was published in the Federal Register on April 11, 2005 (70 FR 18324) to require a one-time test of the fire extinguishers for the engine and auxiliary power unit (APU), as applicable, to determine the capability of the Firex electrical circuits to fire discharge cartridges, and troubleshooting actions if necessary. That action also proposed to remove Model MD-10-10F and MD-10-30F airplanes from the applicability of the existing AD.

Comments

We provided the public the opportunity to participate in the development of this AD. We have considered the comments received.

No Objections to the NPRM

One commenter states that it has no objection to the NPRM.

Request To Give Credit for Previous Alternative Methods of Compliance (AMOCs)

This same commenter notes that it has received an AMOC with AD 2003-17-07. We infer that the commenter is requesting that credit be given for compliance with the AD in accordance with the AMOC.

We acknowledge that the AMOC the commenter received provides compliance with AD 2003-17-07. However, it is unnecessary to amend this revised AD to reflect credit for previous accomplishment of the one-time test of the fire extinguishers for the engine and auxiliary power unit (APU), as applicable. This revised AD merely reduces the applicability of the AD, and all of the previous requirements, conditions, and provisions remain in effect.

Request To Revise Note 1

One commenter requests that we revise a typographical error in Note 1 of the proposed AD, which referred to paragraph (c) as the AMOC paragraph. We agree with the commenter, and have revised Note 1 to refer to paragraph (h) of the AD for AMOCs.

Conclusion

We have carefully reviewed the available data, including the comments received, and determined that air safety and the public interest require adopting the AD with the change described previously. We have determined that this change will neither increase the economic burden on any operator nor increase the scope of the AD.

Costs of Compliance

There are about 3,311 airplanes of the affected design in the worldwide fleet. This AD will affect about 1,520 airplanes of U.S. registry.

The actions that are required by AD 2003-17-07 and retained in this AD take between 4 work hours and 7 work hours per airplane, at an average labor rate of $65 per work hour. Based on these figures, the estimated cost of the currently required actions is estimated to be between $395,200, and $691,600, on U.S. operators, or between $260 and $455 per airplane.

This AD does not add any new actions to the existing actions required by AD 2003-17-07. Since this AD will remove certain airplanes from the applicability of the AD, the total estimated cost of compliance of the AD for U.S. operators is actually reduced from the existing AD. However, the estimated cost of compliance per airplane remains the same.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13281 (68 FR 50058, August 20, 2003) and adding the following new airworthiness directive (AD):

2003-17-07 R1: Amendment 39-14302. Docket No. FAA-2005-20881; Directorate Identifier 2004-NM-253-AD.

Effective Date

(a) The effective date of this AD is September 24, 2003.

Affected ADs

(b) This AD revises AD 2003-17-07 to remove reference to McDonnell Douglas Model MD-10-10F and MD-10-30F airplanes.

Applicability

(c) This AD applies to the airplanes listed in Table 1 of this AD, certificated in any category. Table 1 of this AD follows:

Table 1.—Applicability
McDonnell Douglas models | As listed in
Model DC-8-11, DC-8-12, DC-8-21, DC-8-31, DC-8-32, DC-8-33, DC-8-41, DC-8-42, and DC-8-43 airplanes; DC-8-51, DC-8-52, DC-8-53, and DC-8-55 airplanes; DC-8F-54 and DC-8F-55 airplanes; DC-8-61, DC-8-62, and DC-8-63 airplanes; DC-8-61F, DC-8-62F, and DC-8-63F airplanes; DC-8-71, DC-8-72 and DC-8-73 airplanes; DC-8-71F, DC-8-72F, and DC-8-73F airplanes | Boeing Alert Service Bulletin DC8-26A042, including Appendix A, dated January 31, 2002.
Model DC-9-11, DC-9-12, DC-9-13, DC-9-14, DC-9-15, and DC-9-15F airplanes; DC-9-21 airplanes; DC-9-31, DC-9-32, DC-9-32 (VC-9C), DC-9-32F, DC-9-33F, DC-9-34, DC-9-34F, and DC-9-32F (C-9A, C-9B) airplanes; DC-9-41 airplanes; DC-9-51 airplanes; DC-9-81 (MD-81), DC-9-82 (MD-82), DC-9-83 (MD-83), and DC-9-87 (MD-87) airplanes; and MD-88 airplanes | McDonnell Douglas Alert Service Bulletin DC9-26A029, Revision 01, dated May 8, 2001.
Model DC-10-10 and DC-10-10F airplanes; DC-10-15 airplanes; DC-10-30 and DC-10-30F (KC-10A and KDC-10) airplanes; DC-10-40 and DC-10-40F airplanes; | McDonnell Douglas Alert Service DC10-26A050, dated July 31, 2000.
Model MD-11 and MD-11F airplanes | McDonnell Douglas Alert Service Bulletin MD11-26A039, Revision 01, dated November 21, 2002.
Model MD-90-30 airplanes | McDonnell Douglas Alert Service Bulletin MD90-26A005, dated July 31, 2000.

Unsafe Condition

(d) This AD results from reports indicating that fire extinguishers for the engine and the auxiliary power unit (APU) had failed to discharge when commanded on a McDonnell Douglas Model DC-9-81 airplane and a Model DC-9-33F airplane. We are issuing this AD to prevent failure of the fire extinguishers to fire discharge cartridges, which could result in the inability to put out a fire in an engine or in the APU.

Compliance

(e) You are responsible for having the actions required by this AD performed within the compliance times specified, unless the actions have already been done.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Testing the Firex Electrical Circuits

(f) Within 18 months after the accumulation of 15,000 total flight hours, or within 18 months after September 24, 2003 (the effective date of AD 2003-17-07), whichever occurs later: Test the capability of the electrical circuits of the Firex fire extinguishers for the engine and the APU, as applicable, per the applicable alert service bulletin (ASB) listed in Table 1 of this AD.

(1) For any airplane equipped with an APU: If any electrical circuit of the Firex fire extinguishers for the APU does not pass the testing, before further flight, accomplish the troubleshooting procedures specified in the applicable ASB. Dispatch with an inoperative APU is permitted for the amount of time specified in the Minimum Equipment List. Dispatch after that time is not permitted until the circuits are repaired per the Boeing Standard Wiring Practices Manual (SWPM) D6-82481.

(2) For all airplanes: If any electrical circuit of the Firex fire extinguishers for the engine does not pass the testing, before further flight, accomplish the troubleshooting procedures specified in the applicable ASB, and repair per SWPM D6-82481. Dispatch is not permitted until the circuits have been repaired.

Actions Accomplished Per Previous Issue of Service Bulletins

(g) Tests and troubleshooting procedures accomplished before the effective date of this AD per McDonnell Douglas Alert Service Bulletin DC9-26A029, dated July 27, 2000; or MD11-26A039, dated July 31, 2000; are considered acceptable for compliance with the corresponding action specified in paragraph (f) of this AD.

Alternative Methods of Compliance

(h) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(i) Special flight permits may be issued in accordance with sections 21.197 and 21.199 of the Federal Aviation Regulations (14 CFR 21.197 and 21.199) to operate the airplane to a location where the requirements of this AD can be accomplished.

Material Incorporated by Reference

(j) You must use the service bulletins listed in Table 2 of this AD to perform the actions that are required by this AD, unless the AD specifies otherwise.

Table 2.—Applicable Service Bulletins
Service bulletin | Revision level | Date
Boeing Alert Service Bulletin DC8-26A042, including Appendix A | Original | January 31, 2002.
McDonnell Douglas Alert Service Bulletin DC9-26A029 | Revision 01 | May 8, 2001.
McDonnell Douglas Alert Service Bulletin DC10-26A050 | Original | July 31, 2000.
McDonnell Douglas Alert Service Bulletin MD11-26A039 | Revision 01 | November 21, 2002.
McDonnell Douglas Alert Service Bulletin MD90-26A005 | Original | July 31, 2000.

(1) On September 24, 2003 (68 FR 50058, August 20, 2003), the Director of the Federal Register approved the incorporation by reference of Boeing and McDonnell Douglas service bulletins listed in Table 2.

(2) Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 20, 2005.
Ali Bahrami,
Manager, Transport Airplane Directorate, Aircraft Certification Service.

[FR Doc. 05-19438 Filed 9-30-05; 8:45 am]

BILLING CODE 4910-13-P